DEPARTMENT OF COMMERCE

International Trade Administration

[A-570-867]

Certain Automotive Replacement Glass Windshields from the People's Republic of China: Notice of Amended Final Determination of Sales at Less Than Fair Value and Antidumping Duty Order Pursuant to Court Decision

AGENCY: Import Administration, International Trade Administration, Department of Commerce.

EFFECTIVE DATE: December 11, 2007

SUMMARY: On August 3, 2007, the United States Court of International Trade (“CIT” or “Court”) entered a final judgment sustaining the Final Results of Redetermination Pursuant to Court Remand, Fuyao Glass Industry Group Co., v. United States (“Fourth Remand Redetermination”) made by the Department of Commerce (“the Department”) pursuant to the CIT's remand of the final determination of the less-than-fair-value investigation of certain automotive replacement glass windshields from the People's Republic of China (“PRC”) in Changchun Pilkington Safety Glass Co., Ltd., et. al. v. United States, Consol. Court No. 02-00312, Slip Op. 07-118 (August 3, 2007). As there is now a final and conclusive court decision in this case, the Department is amending the final determination and antidumping duty order of this investigation.

FOR FURTHER INFORMATION CONTACT: Paul Stolz or Robert Bolling, AD/CVD Operations, Office 8, Import Administration, International Trade Administration, U.S. Department of Commerce, 14th Street and Constitution Avenue, NW, Washington, DC 20230; telephone: (202) 482-4474 or (202) 482-3434, respectively.

SUPPLEMENTARY INFORMATION:

Background

On February 12, 2002, the Department published its Final Determination of Sales at Less Than Fair Value: Certain Automotive Replacement Glass Windshields From the People's Republic of China, 67 FR 6482 (February 12, 2002) (“Final Determination”), and accompanying Issues and Decision Memorandum, as amended, 67 FR 11670 (March 15, 2002), covering U.S. sales of subject merchandise during the period of investigation (“POI”), July 1, 2000, through December 31, 2000. In its Final Determination, the Department calculated individual rates for two mandatory respondents, Fuyao Glass Industry Group Co., Ltd. (“Fuyao”) and Xinyi Automotive Glass (Shenzhen) Co., Ltd. (“Xinyi”). The Department then assigned a separate rate to the companies that demonstrated an absence of government control over their export activities, and this rate was based on the weighted average of the rates assigned to Fuyao and Xinyi. See Section 735(c)(5) of the Tariff Act of 1930, as amended (“the Act”). Shenzhen Benxun Automotive Glass Co., Ltd. (“Benxun”), and Changchun Pilkington Safety Glass, Co., Ltd, Guilin Pilkington Safety Glass Co., Ltd., and Wuhan Yaohua Pilkington Safety Glass Co., Ltd. (collectively “Pilkington”) were among the companies that received separate rates during the investigation.

In separate actions, plaintiffs, Fuyao, Xinyi, Pilkington, and Benxun¹ contested several aspects of the Final Determination, including the Department's decision to disregard certain market economy inputs.² On August 2, 2002, the Court consolidated these actions into Court No. 02-00282. On February 15, 2006, while the cases were consolidated, the Court remanded the Department's decision regarding certain market economy inputs to the Department. See Fuyao Glass Industry Group Co., Ltd. v. United States, Consol. Court No. 02-00282, 2006 Ct. Int'l Trade Lexis 21, Slip Op. 2006-21 (CIT February 15, 2006). As a result of its remand determination, the Department calculated zero margins for both Fuyao and Xinyi.

¹ On July 20, 2004, the Department determined that Shenzhen CSG Autoglass Co., Ltd. ("CSG") is the successor-in-interest to Benxun. The amended final results of this segment of the proceeding will apply to entries made by CSG on or subsequent to July 20, 2004.

² Court Nos. 02-00282, 02-00312, 02-00320 and 02-00321.

In Fuyao Glass Industry Group Co. v. United States, Consol. Court No. 02-00282, (Orders of November 2, 2006, and December 19, 2006), the Court then granted the Department's request for a voluntary remand and instructed the Department to devise a reasonable methodology to calculate an antidumping margin for Pilkington and Benxun, taking into consideration the zero margins assigned to Fuyao and Xinyi. On January 8, 2007, the Court severed Fuyao's and Xinyi's actions, Court Nos. 02-00282 and 02-00321, from the consolidated action, and designated Pilkington's action, Court No. 02-00312, as the lead case, under which Court Nos. 02-00319 and 02-00320 were consolidated.

On April 16, 2007, the Department filed its remand results with the Court. In its fourth remand results, the Department devised a reasonable methodology to calculate an antidumping margin for Pilkington and Benxun, taking into consideration the zero margins assigned to Fuyao and Xinyi. Specifically, on remand, the Department identified the control numbers (“CONNUM”) shared by Pilkington, Benxun, Fuyao and Xinyi, as reported in their questionnaire responses, and imputed Fuyao's and Xinyi's CONNUM-specific margins to the matching CONNUMs of Pilkington and Benxun. The Department then weight-averaged those CONNUM-specific margins, which resulted in the de minimis antidumping margin of 1.47 percent for Pilkington and Benxun.

On May 10, 2007, and June 28, 2007, respectively, the Court issued final judgments in Court Nos. 02-00282 and 02-00321, wherein it affirmed the Department's third remand results with respect to Fuyao's and Xinyi's actions. On August 3, 2007, the Court issued a final judgement, wherein it affirmed the Department's fourth remand results with respect to Pilkington and Benxun.

On November 7, 2007, the Department notified the public that the CIT's final judgment was not in harmony with the Department's Final Determination. See Certain Automotive Replacement Glass Windshields from the People's Republic of China: Notice of Decision of the Court of International Trade Not in Harmony, 72 FR 62812 (November 7, 2007). No party appealed the CIT's decision. As there is now a final and conclusive court decision in this case, we are amending our Final Determination.

Amended Final Determination

As the litigation in this case has concluded, the Department is amending the Final Determination. The revised dumping margin in the amended final determination is as follows:

Exporter | Margin
Changchun Pilkington Safety Glass, Co., Ltd,
Guilin Pilkington Safety Glass Co., Ltd.,
Wuhan Yaohua Pilkington Safety Glass Co., Ltd. | 1.47 percent
Shenzhen Benxun Automotive Glass Co., Ltd. | 1.47 percent

The PRC-wide rate continues to be 124.5 percent as determined in the Department's Final Determination. The Department intends to issue instructions to U.S. Customs and Border Protection fifteen days after publication of this notice, to revise the cash deposit rates for the companies listed above, effective as of the publication date of this notice.

This notice is published in accordance with sections 735(d) and 777(i) of the Act.

Dated: December 3, 2007.
Stephen J. Claeys,
Acting Assistant Secretary for Import Administration.

[FR Doc. E7-23961 Filed 12-10-07; 8:45 am]

BILLING CODE 3510-DS-S